NUCLEAR REGULATORY COMMISSION

[NRC-2010-0331]

Appointments To Performance Review Boards for Senior Executive Service

AGENCY: Nuclear Regulatory Commission.

ACTION: Appointment to Performance Review Board for Senior Executive Service.

SUMMARY: This notice announces a change in the membership of the Senior Executive Service Performance Review Board for the U.S. Nuclear Regulatory Commission (NRC).

SUPPLEMENTARY INFORMATION: On October 26, 2010 (75 FR 65673), the NRC published its list of Performance Review Board appointees pursuant to the regulations at 5 CFR 430.310 (74 FR 51261). This notice announces the appointment of Charles L. Miller to the Performance Review Board in place of Catherine Haney, who is unavailable to participate this year. The NRC Performance Review Board (PRB) is responsible for making recommendations to the appointing and awarding authorities on performance appraisal ratings and performance awards for Senior Executives and Senior Level employees. For the public's convenience, an updated membership list of the Performance Review Board is provided below:

Darren B. Ash, Deputy Executive Director for Corporate Management, Office of the Executive Director for Operations;

R. W. Borchardt, Executive Director for Operations;

Stephen G. Burns, General Counsel;

Elmo E. Collins, Jr., Regional Administrator, Region IV;

Margaret M. Doane, Director, Office of International Programs;

James E. Dyer, Chief Financial Officer;

Kathryn O. Greene, Director, Office of Administration;

Eric J. Leeds, Director, Office of Nuclear Reactor Regulation;

Charles L. Miller, Director, Office of Federal and State Materials and Environmental Management Programs;

Martin J. Virgilio, Deputy Executive Director for Reactor and Preparedness Programs, Office of the Executive Director for Operations;

Michael F. Weber, Deputy Executive Director for Materials, Waste, Research, State, Tribal, and Compliance Programs, Office of the Executive Director for Operations;

James T. Wiggins, Director, Office of Nuclear Security and Incident Response.

The following individuals will serve as members of the NRC PRB Panel that was established to review appraisals and make recommendations to the appointing and awarding authorities for NRC PRB members:

Marvin L. Itzkowitz, Associate General Counsel for Hearings, Enforcement, and Administration, Office of the General Counsel;

Michael R. Johnson, Director, Office of New Reactors;

Brian W. Sheron, Director, Office of Nuclear Regulatory Research.

All appointments are made pursuant to Section 4314 of Chapter 43 of Title 5 of the United States Code.

DATES: Effective Date: December 3, 2010.

FOR FURTHER INFORMATION CONTACT: Secretary, Executive Resources Board, U.S. Nuclear Regulatory Commission, Washington, DC 20555, (301) 492-2076.

Dated at Bethesda, Maryland, this 23rd day of November, 2010.
For the U.S. Nuclear Regulatory Commission,
Miriam Cohen,
Secretary, Executive Resources Board.

[FR Doc. 2010-30354 Filed 12-2-10; 8:45 am]

BILLING CODE 7590-01-P